DEPARTMENT OF HOMELAND SECURITY

Coast Guard

33 CFR Part 117

[Docket No. USCG-2014-0074]

Drawbridge Operation Regulation; Milford Haven Inlet, Hudgins, VA

AGENCY: Coast Guard, DHS.

ACTION: Notice of deviation from drawbridge regulation.

SUMMARY: The Coast Guard has issued a temporary deviation from the operating schedule that governs the VA State Route 223 Bridge (Gwynn's Island) across the Milford Haven Inlet, mile 0.1, at Hudgins, Virginia. The deviation is necessary to facilitate painting the bridge. This deviation allows the bridge to remain in the closed-to-navigation position during the evening.

DATES: This deviation is effective without actual notice from March 4, 2014 until 4 a.m. on March 31, 2014. For the purposes of enforcement, actual notice will be used from 6 p.m. on February 24, 2014, until March 4, 2014.

ADDRESSES: The docket for this deviation, USCG-2014-0074, is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mrs. Jessica Shea, Bridge Management Specialist, Fifth Coast Guard District, telephone (757) 398-6422. Email jessica.c.shea2@uscg.mil. If you have questions on viewing the docket, call Cheryl Collins, Program Manager, Docket Operations, telephone 202-366-9826.

SUPPLEMENTARY INFORMATION: The bridge owner, the Virginia Department of Transportation (VDOT), is currently conducting maintenance on the Route 223 Swing Bridge over Milford Haven Inlet near Hudgins, Virginia. On August 8, 2013, Coast Guard published a temporary deviation (78 FR 48314) allowing the bridge to remain closed-to-navigation position for four 24-hour non-consecutive periods to accommodate necessary maintenance. The closures dates were announced in the local and broadcast notice to mariners seven days in advance.

Due to unforeseen circumstances, the project has fallen behind and VDOT has requested for an additional deviation to run simultaneously with the aforementioned deviation in order to facilitate the supplemental rehabilitation work that includes painting the bridge. This deviation will allow the bridge to be in the closed-to-navigation position every day from 6 p.m. through 4 a.m. the following morning. The evening closures will commence on February 24, 2014 and continue through March 31, 2014 when both deviations will end.

Under the regular operating schedule for the Route 223 Swing Bridge, the bridge opens on signal, as required by 33 CFR § 117.5 and opens up to ten times every day for commercial fishing vessels and Coast Guard vessels at Station Milford Haven. The 24-hour temporary deviation discussed in the published temporary deviation (78 FR 48314) will not be impacted by this nighttime temporary deviation for painting.

The vertical clearance of the swing bridge in the closed-to-navigation position is 12 feet at mean high water. Vessels able to pass through the bridge in the closed position may do so at any time and are advised to proceed with caution. The bridge will be able to open for emergencies during any of the closure periods. The southern approach to Gywnn's Island by Sandy Point, VA can be used as an alternate route for vessels able to transit in water depths of 2 feet. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: February 19, 2014.
Waverly W. Gregory, Jr.,
Bridge Program Manager, Fifth Coast Guard.

[FR Doc. 2014-04738 Filed 3-3-14; 8:45 am]

BILLING CODE 9110-04-P